DEPARTMENT OF COMMERCE

International Trade Administration

[A-421-807]

Certain Hot-Rolled Carbon Steel Flat Products from the Netherlands: Notice of Rescission of Antidumping Duty Administrative Review

AGENCY: Import Administration, International Trade Administration, Department of Commerce.

SUMMARY: In response to requests from Nucor Corporation (Nucor), Mittal Steel USA Inc. (Mittal) and United States Steel Corporation (USSC) (collectively, petitioners), the U.S. Department of Commerce (the Department) initiated an administrative review of the antidumping duty order on certain hot-rolled carbon steel flat products from the Netherlands for Corus Staal BV (Corus) for the period November 1, 2005, through October 31, 2006. No other interested party requested a review of Corus for this period of review. For the reasons discussed below, the Department is rescinding this administrative review.

EFFECTIVE DATE: March 30, 2007.

FOR FURTHER INFORMATION CONTACT: David Cordell or Robert James, AD/CVD Operations, Office 7, Import Administration, International Trade Administration, U.S. Department of Commerce, 14th Street and Constitution Avenue NW, Washington, DC 20230; telephone: (202) 482-0408 or at (202) 482-0649, respectively.

SUPPLEMENTARY INFORMATION:

Background

On November 1, 2006, the Department published a notice of opportunity to request an administrative review of the antidumping duty order on certain hot-rolled carbon steel flat products from the Netherlands, (71 FR 64240). On November 30, 2006, we received requests from USSC, Mittal and Nucor to conduct an administrative review of Corus' sales of certain hot-rolled carbon steel flat products to the United States during the period November 1, 2005, through October 31, 2006. On December 27, 2006, the Department initiated an administrative review of the antidumping duty order on certain hot-rolled carbon steel flat products from the Netherlands for the period November 1, 2005 through October 31, 2006, in order to determine whether merchandise imported into the United States was sold at less than fair value by Corus. See Initiation of Antidumping and Countervailing Duty Administrative Review, 71 FR 77720 (December 27, 2006).

On February 27, 2007 USSC Mittal and Nucor withdrew their requests for review. On March 9, 2007, Corus submitted comments in regards to the withdrawal requests. These comments are summarized and addressed in an accompanying memorandum, which is being released in conjunction with this notice. See memorandum to Richard Weible, Office Director, through Robert James, Program Manager, from David Cordell, entitled “Comments on Domestic Interested Parties Requests for Withdrawal.”

Rescission of Review

Section 351.213(d)(1) of the Department's regulations provide that the Department will rescind an administrative review if the party that requested the review withdraws its request for review within 90 days of the date of publication of the notice of initiation of the requested review, or withdraws at a later date if the Department determines that it is reasonable to extend the time limit for withdrawing the request. As all parties that requested this review have withdrawn those requests within 90 days of the date of publication of the notice of initiation of the requested review, this review is rescinded. The Department intends to issue appropriate assessment instructions to Customs and Border Protection (CBP) 15 days after the date of the publication of this notice. The Department will direct CBP to assess antidumping duties for Corus Staal BVat the cash deposit rate in effect on the date of entry for entries during the period November 1, 2005, through October 31, 2006.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and the subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This notice is in accordance with section 777(i)(1) of the Tariff Act of 1930, as amended, and 19 CFR 351.213(d)(4).

Dated: March 23, 2007.
Stephen J. Claeys,
Deputy Assistant Secretary for Import Administration.

[FR Doc. E7-5864 Filed 3-29-07; 8:45 am]

BILLING CODE 3510-DS-S